DEPARTMENT OF AGRICULTURE

National Institute of Food and Agriculture

Notice of Intent To Request Approval To Establish a New Information Collection and Record Keeping Requirement

AGENCY: National Institute of Food and Agriculture, USDA.

ACTION: Notice and request for comments.

SUMMARY: In accordance with the Paperwork Reduction Act of 1995 and Office of Management and Budget (OMB) regulations that implement the Paperwork Reduction Act of 1995, this notice announces the National Institute of Food and Agriculture's (NIFA) intention to request approval to establish a new information collection and record keeping requirement for the Veterinary Medical Loan Repayment Program (VMLRP).

DATES: Written comments on this notice must be received by February 29, 2016, to be assured of consideration. Comments received after that date will be considered to the extent practicable.

ADDRESSES: Written comments may be submitted by any of the following methods: Email: rmartin@nifa.usda.gov; Mail: Office of Information Technology (OIT), NIFA, USDA, STOP 2216, 1400 Independence Avenue SW., Washington, DC 20250-2216.

FOR FURTHER INFORMATION CONTACT: Robert Martin, Records Officer; Email: rmartin@nifa.usda.gov.

SUPPLEMENTARY INFORMATION: Title: Veterinary Medical Loan Repayment Program (VMLRP).

OMB Number: 0524-New.

Type of Request: Intent to request approval to establish a new information collection and record keeping requirement for three years.

Abstract: In January 2003, the National Veterinary Medical Service Act (NVMSA) was passed into law adding section 1415A to the National Agricultural Research, Extension, and Teaching Policy Act of 1997. This law established a new Veterinary Medicine Loan Repayment Program (VMLRP) (7 U.S.C. 3125a) authorizing the Secretary of Agriculture to carry out a program of entering into agreements with veterinarians under which they agree to provide veterinary services in veterinarian shortage situations. The purpose of the program is to assure an adequate supply of trained food animal veterinarians in shortage situations and provide USDA with a pool of veterinary specialists to assist in the control and eradication of animal disease outbreaks.

The VMLRP Program Office proposes a record keeping requirement for VMLRP participants and to collect additional information from current participants, their employers and past participants. The records to be maintained and the information collected will allow for better oversight and assessment of the program. Additionally, to streamline OMB approval processes all currently approved VMLRP information collections (OMB Control Number 0524-0046 and 0524-0047) will be combined into a single package along with the new information proposed. Each new requirement is described in detail below.

(1) Service Log

Need and Use of the Records: Program participants are required to verify on a quarterly basis that the terms of the VMLRP service agreement are being met through the Service Verification Form (NIFA-09-10, OMB No 0534-0047). This form is an affidavit signed by the program participant's employer or, if self-employed, by the participant. Upon receipt by NIFA of a signed form affirming service under the terms and conditions of the service agreement, funds are released to participant's lender(s). At this time the affidavit is not validated by VMLRP program staff. In order to validate service affidavits, the VMLRP proposes a recording keeping requirement for participants in the form of service log that would be subject to audit by program staff. During a service audit VMLRP staff will compare the service log to the shortage area description and contact participants with any questions. Discrepancies between the shortage situation description and service log may indicate a breach in the service agreement and payments to lender(s) will be put on hold until the discrepancy is resolved.

Components of the Record: For those participants serving in the private sector (Type I and Type II shortage situations), the service log would contain the following for each service/appointment: Date of service, duration of services/appointment, windshield/drive time, species or species type served, county and zip of client/farm receiving services, and services provided. For those serving in the public sector (Type III shortage situations), the service log would contain the following: Date of service/activity, duration of service/activity and description of service/activity conducted including the specific role of the participant in that service/activity.

Method of Collection: Participants should maintain their service logs in any data format e.g. csv, .xls, etc. A template will be provided. The full service log should be sent via email to the VMLRP Program Office along with the signed service verification form.

Frequency of Response: Random audit. When the quarterly affidavit is sent to participants for signature, each participant will be notified if they have been selected for audit. A VMLRP participant should anticipate at least one audit during their service agreement period.

Affected Public: VMLRP participants under service agreement.

Type of Respondents: Veterinarians.

Estimate of Burden:

Number of respondents | Estimated number of responses per respondent | Average burden hours per response | Annual burden hours requested
150 | 260 | .25 | 9750

(2) Feedback Survey

Need for and Use of the Information: The VMLRP Program Office does not have a formal mechanism for program participants to provide feedback to the program or to State Animal Health Officials (SAHOs) on the status of the shortage situation they are serving. Moreover, there is no formal mechanism to obtain feedback on program processes, program resources, or quality of services and interactions with program staff. Currently, any feedback provided by participants is ad hoc on their own volition. The VMLRP Program Office is proposing to collect data on the current and 5-10y projected status of a shortage area, and program processes, resources and customer service. Data will be used by VMLRP to improve internal processes and shortage area information and will be shared with SAHOs to aide them in future nominations of veterinarian shortage situations. Active solicitation by VMLRP for feedback will occur after participants complete year one of the service agreement. This timing enables VMLRP to respond to feedback as appropriate and provide information to SAHOs during a participant's service agreement period.

Method of Collection: Feedback questions will be solicited through a survey sent by email to participants as a pdf-fillable form or as a link to a web-based survey system. Completed surveys will be emailed to the VMLRP Program Office or stored on the web-based system. Completion of the survey is voluntary.

Frequency of Response: Once during the service agreement period.

Affected Public: VMLRP participants under service agreement.

Type of Respondents: Veterinarians.

Estimate of Burden:

Number of respondents | Estimated number of responses per respondent | Average burden hours per response | Annual burden hours requested
50 | 1 | .33 | 16.5

(3) Close-Out Report

Need for and Use of the Information: Close-out reports serve as documentation for federal award programs to assess whether the program is meeting its intended outcomes. VMLRP proposes to collect data from participants on the services provided during their service award, their impact on the shortage situation, and their professional plans post-service agreement. The information collected will be reported in aggregate as part of the program's annual report and used to evaluate VMLRP processes, impacts and projected outcomes.

Method of Collection: Information will be solicited via email using a pdf-fillable form or as a link to a web-based survey system. Completed surveys will be emailed to the VMLRP Program Office or stored on the web-based system. Completion of the report is mandatory and a condition of the service agreement.

Frequency of Response: Once at the end of the service agreement period.

Affected Public: VMLRP participants under service agreement.

Type of Respondents: Veterinarians.

Estimate of Burden:

Number of respondents | Estimated number of responses per respondent | Average burden hours per response | Annual burden hours requested
50 | 1 | .33 | 16.5

(4) Employer Feedback

Need for and Use of the Information. The VMLRP Program Office does not have a formal mechanism for program participants' employers to provide feedback to the program or to State Animal Health Officials (SAHOs) on the status of the shortage situation their employee is serving. Currently, any feedback provided by employers is ad hoc on their own volition. The VMLRP Program Office is proposing to collect data on the current and 5-10y projected status of a shortage situation, as well as feedback on the impact their employee has had on the shortage situation. Data will be used by VMLRP to assess program impact and may be reported in aggregate in the program's annual reports. Shortage area information will be shared with SAHOs to aide them in future nominations of veterinarian shortage situations. Active solicitation by VMLRP for feedback will occur during the last quarter of the VMLRP participant's agreement period.

Method of Collection: Feedback will be solicited through a survey emailed to participants' employers as a pdf-fillable form or as a link to a web-based survey system. Completed surveys will be emailed to the VMLRP Program Office or stored on the web-based system. Completion of the survey is voluntary.

Frequency of Response: Once at the end of the service agreement period.

Affected Public: Employers of VMLRP participants.

Type of Respondents: Veterinarians.

Estimate of Burden:

Number of respondents | Estimated number of responses per respondent | Average burden hours per response | Annual burden hours requested
30 | 1 | .25 | 7.5

(5) Post-Award Termination Survey

Need for and Use of the Information. One of the goals of the VMLRP is long-term mitigation of designated veterinarian shortage situations. At this time, it is unknown whether program participants continue providing services for their shortage situation after their service agreement ends. Data collected will be reported in aggregate as part of the program's annual report, used to assess factors associated with retention (remaining in the same area and providing the same services as described by the shortage situation), and help determine if shortage situations are being mitigated in the long-term.

Method of Collection: Questions on retention will be solicited through a survey emailed to participants as a pdf-fillable form or as a link to a web-based survey system. Completed surveys will be emailed to the VMLRP Program Office or stored on the web-based system. Completion of the survey is voluntary.

Frequency of Response: One, three and five years after service agreement end date.

Affected Public: Past VMLRP participants.

Type of Respondents: Veterinarians.

Estimate of Burden:

Number of respondents | Estimated number of responses per respondent | Average burden hours per response | Annual burden hours requested
150 | 1 | .25 | 37.5

Total Estimate of Burden: The estimated annual reporting burden for all VMLRP collection is as follows:

Type of respondents | Number of respondents | Estimated number of responses per respondent | Average burden hours per response | Annual burden hours requested
Applicants:
Veterinary Medicine Loan Repayment Program Application OMB0524-0047 | 602 | 1 | 2.25 | 1350
Current Participants subtotal |  |  |  | 1350
State Animal Health Officials:
Veterinary Medicine Loan Repayment Program Shortage Situation Nomination OMB0524-0046 | 60 | 4 | 2 | 480
State Animal Health Official subtotal |  |  |  | 480
Current Participants:
Service Log | 150 | 260 | .25 | 9750
Feedback Survey | 50 | 1 | .33 | 16.5
Close-out Report | 50 | 1 | .33 | 16.5
Current Participants subtotal |  |  |  | 9783
Employers:
Employer Feedback | 30 | 1 | .25 | 7.5
Employer subtotal |  |  |  | 7.5
Past Participants:
Post-Award Termination Survey | 150 | 1 | .25 | 37.5
Past Participants subtotal |  |  |  | 37.5
GRAND TOTAL |  |  |  | 11,658

Comments: Comments are invited on: (a) Whether the proposed record keeping requirement and collection of information are necessary for the proper performance of the functions of the Agency, including whether the information will have practical utility; (b) the accuracy of the Agency's estimate of the burden of the proposed collection of information; (c) ways to enhance the quality, utility, and clarity of the information to be collected; and (d) ways to minimize the burden of collecting the information on respondents, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Robert Martin as directed above.

Done at Washington, DC, this 16 day of December 2015.
Catherine E. Woteki,
Under Secretary, Research, Education, and Economics.

[FR Doc. 2015-32747 Filed 12-28-15; 8:45 am]

BILLING CODE 3410-22-P